SECURITIES AND EXCHANGE COMMISSION

[Release No. 34-65917; File No. SR-Phlx-2011-143]

Self-Regulatory Organizations; NASDAQ OMX PHLX LLC; Notice of Withdrawal of Proposed Rule Change To Modify Commentary .01 to Rule 1009 Regarding Criteria for Listing an Option on an Underlying Covered Security

December 8, 2011.

On October 24, 2011, NASDAQ OMX PHLX LLC (“Phlx”) filed with the Securities and Exchange Commission (“Commission”) a proposed rule change pursuant to Section 19(b)(1) of the Securities Exchange Act of 1934 ¹ and Rule 19b-4 thereunder ² to amend Commentary .01 to Rule 1009 to modify the criteria for listing options on an underlying covered security. Notice of the proposed rule change was published in the Federal Register on November 14, 2011.³ The Commission received two comment letters on the proposed rule change.⁴ On December 2, 2011, Phlx withdrew the proposed rule change (SR-Phlx-2011-143).

¹ 15 U.S.C. 78s(b)(1).

² 17 CFR 240.19b-4.

³ See Securities Exchange Act Release No. 65706 (November 8, 2011), 76 FR 70520.

⁴ See letters to Elizabeth M. Murphy, Secretary, Commission, from Jenny L. Klebes, Senior Attorney, Legal Division, Chicago Board Options Exchange, dated November 25, 2011; and Janet McGinness, Senior Vice President—Legal & Corporate Secretary, Legal & Government Affairs, NYSE Euronext, dated December 1, 2011.

For the Commission, by the Division of Trading and Markets, pursuant to delegated authority.⁵
⁵ 17 CFR 200.30-3(a)(12).
Kevin M. O'Neill,
Deputy Secretary.

[FR Doc. 2011-32067 Filed 12-13-11; 8:45 am]

BILLING CODE 8011-01-P